DEPARTMENT OF TRANSPORTATION

Federal Motor Carrier Safety Administration

[Docket No. FMCSA-2020-0111]

Agency Information Collection Activities; Revision of an Approved Information Collection: Practices of Household Goods Brokers

AGENCY: Federal Motor Carrier Safety Administration (FMCSA), U.S. Department of Transportation (DOT).

ACTION: Notice and request for comments.

SUMMARY: In accordance with the Paperwork Reduction Act of 1995, FMCSA announces its plan to submit the Information Collection Request (ICR) described below to the Office of Management and Budget (OMB) for review and approval.

DATES: Please send your comments by March 3, 2021. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Monique Riddick, Commercial Enforcement and Investigations Division, U.S. Department of Transportation, Federal Motor Carrier Safety Administration, West Building, 6th Floor, MC-ECC, 1200 New Jersey Avenue SE, Washington, DC 20590-0001. Telephone: 202-366-8045; email monique.riddick@dot.gov.

SUPPLEMENTARY INFORMATION:

Background

As a result of Title IV, Subtitle B of the Safe, Accountable, Flexible, Efficient, Transportation Equity Act: A Legacy for Users (SAFETEA-LU) (Pub. L. 109-59) and a petition for rulemaking from the American Moving and Storage Association,¹ FMCSA amended then-existing regulations for brokers in a final rule titled, “Brokers of Household Goods Transportation by Motor Vehicles,” (75 FR 72987, Nov. 29, 2010). The 2010 rule revised 49 CFR part 371 by providing additional consumer protection responsibilities for brokers of Household Goods (HHG).

¹ As of August 8, 2020, the American Moving and Storage Association (AMSA) announced AMSA will join the American Trucking Associations (ATA) as the Moving & Storage Conference. Retrieved January 1, 2021 from: https://www.moving.org/amsa-to-become-conference-of-american-trucking-associations/.

Section 4212 of SAFETEA-LU directs the Secretary to require HHG brokers to provide potential shippers with information throughout the various stages of their interaction. The below summarizes the information collection required of the HHG broker at the various interaction stages between the HHG broker and shippers as laid out by 49 CFR part 371, subpart B.

I. First Phase: “Prospecting”

When HHG shippers are looking to procure HHG brokers' services, brokers must collect the following information and display it on their websites and solicitation materials:

• Their physical address (49 CFR 371.107(a));

• Their U.S. DOT number(s) and MC number (49 CFR 371.107(b));

• A statement indicating that they will not transport the shipper's goods but will only arrange for goods to be transported by a registered motor carrier (49 CFR 371.107(c));

• If brokers choose to publish rates on their websites or solicitation materials, the broker must also publish a statement that the rates are based on a motor carrier's publicly available rates (49 CFR 371.107(d));

• If brokers choose to publish a list of motor carriers with whom they work, the list must only be a list of motor carriers with whom brokers have agreements (49 CFR 371.107(e)); and

• Brokers must publish information regarding their cancellation policies, including information on deposits and refunds (49 CFR 371.117(a)).

II. Second Phase: “Contact”

When HHG shippers make reasonable requests seeking additional information about broker services, the HHG brokers must collect the following information and distribute it to HHG shippers:

1. A list of motor carriers with whom it has agreements (49 CFR 371.109(a)); and

2. A statement indicating the broker is not a motor carrier and that the broker is only arranging transportation of the shipper's goods (49 CFR 371.109(b)).

III. Third Phase: “Estimate”

When HHG shippers request estimates, the HHG brokers must collect the following information and distribute it to HHG shippers and/or store the information received:

1. FMCSA's published information materials: (1) “Ready to Move?—Tips for a Successful Interstate Move” and (2) “Your Rights and Responsibilities When you Move” (49 CFR 371.111(a)(1),(a)(2), & (a)(3));

2. A document signed by the shipper, showing he/she received FMCSA's published information material (49 CFR 371.111(c));

3. A written estimate based on the motor carrier's physical survey of household items (49 CFR 371.113(a)), with estimates based on published motor carrier rates (49 CFR 371.113(b));

4. If applicable, the shipper must sign a “Waiver” receipt, showing he/she has waived his/her right to a physical survey of his/her household items by the motor carrier. The HHG broker must collect the “Waiver” receipt and store the record (49 CFR 371.113(b)).

IV. Fourth Phase: “Agreement”

Should the shipper find the shipping estimate and broker services reasonable and wish to contract the broker's services, the two parties must enter into an agreement. At this point, it is standard practice for shippers to pay either a deposit or make full payment. However, before collecting any payment, the broker must collect the following information and distribute it to the HHG shipper:

• An agreement document with required specifications as laid out by 49 CFR 371.115; and

• An agreement document which highlights the broker's and/or motor carrier's refund policy for cancellation of agreements (49 CFR 371.117(a)).

The information provided in phases I, II, III, and IV supports the requirements of 49 CFR part 371, subpart B, and the Department's secondary mission to support HHG consumer protection.

The complete collection of information required by the referenced final rule assists HHG shippers in their business dealings with interstate HHG brokers. The information collected is used by prospective HHG shippers to make informed decisions about contracts, services ordered, executed, and settled. The HHG broker is often the earliest contact for individual HHG shippers in an interstate moving transaction; therefore, it makes sense for HHG brokers to provide HHG shippers with consumer protection information.

FMCSA revises the total annual burden to 72,808 hours. This is a 2,723 annual burden hour increase from the currently approved 70,085 annual burden estimate. This increase is due to the following: (1) The previous iteration did not account for the time brokers use to complete a “waiver” should shippers choose to waive their rights to a physical survey, if applicable to a shipper, as required by 49 CFR 371.113(c)(1), (c)(2), and (c)(3); (2) the previous iteration did not clarify a reproducible frequency formula used to calculate the number of times brokers collect information and submit information to shippers. To produce a reproducible frequency formula, the updated information collection introduced the concept of “phases,” which created a frequency number based on business interactions between brokers and shippers as explained above; and (3) FMCSA's records indicate the number of household goods brokers increased from 543 brokers to 652 brokers.

In addition to the above, an adjustment was made to this ICR revision from the previous ICR renewal with regards to the annual hourly burden estimate for broker “transaction records”(49 CFR 371.3). The annual hourly burden was removed from this ICR revision because the burden is for the collection of information that the broker would ordinarily record for other standard business practices such as tax purposes. As a result, the associated annual hourly burden estimate is removed. The previous ICR accounted 32,580 annual burden hours ² for “transaction records,” while this ICR revises the annual burden to 0 hours.

² FMCSA derived the annual hourly burden by applying the following formula: Time spent on shipper transaction record keeping per day × number of work days × the number of brokers. The calculation was 15 minutes per day × 240 workdays × 543 brokers, which resulted in an annual burden of 32,580 hours.

Title: Practices of Household Goods Brokers.

OMB Control Number: 2126-0048.

Type of Request: Revision of currently approved collection.

Respondents: Brokers of Household Goods.

Estimated Number of Respondents: 652.

Estimated Number of Responses: 500,084 responses.

Expiration Date: January 31, 2021.

Frequency of Response: On occasion.

Estimated Total Annual Burden: 72,808 hours.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR part 1.87.
Thomas P. Keane,
Associate Administrator, Office of Research and Registration.

[FR Doc. 2021-02021 Filed 1-29-21; 8:45 am]

BILLING CODE 4910-EX-P